DEPARTMENT OF HEALTH AND HUMAN SERVICES

Administration for Children and Families

Submission for OMB Review; Comment Request

Title: OCSE-396A: Child Support Enforcement Program Expenditure Report; OCSE-34A: Child Support Enforcement Program Collection Report.

OMB No.: 0970-0181.

Description: State and Tribal agencies administering the Child Support Enforcement Program under Title IV-D of the Social Security Act are required to provide information each fiscal quarter to the Office of Child Support Enforcement (OCSE) concerning administrative expenditures and the receipt and disposition of child support payments from non-custodial parents. State title IV-D agencies report quarterly expenditures and collections using Forms OCSE-396A and OCSE-34A, respectively. Tribal title IV-D agencies report quarterly expenditures using Form SF-269, as prescribed in program regulations, and formerly reported quarterly collections using only a modified version of Form OCSE-34A. The information collected on these reporting forms is used to compute quarterly grant awards to States and Tribes, the annual incentive payments to States and provides valuable information on program finances. This information is also included in a published annual statistical and financial report, available to the general public.

In response to an earlier Federal Register Notice (75 FR 10805, March 9, 2010), this agency received insufficient comments to support any substantial changes to these forms at this time. However, we continue to discuss improvements to these reporting forms with State and Tribal grantees and anticipate some minor revisions will be proposed in the near future. These revisions will be limited to any changes that may be necessitated by the expiration of program requirements under the “American Recovery and Reinvestment Act of 2009” (ARRA) and changes to reporting instructions that will allow Tribal grantees to, at least, use the same quarterly collection report submitted by State grantees.

Respondents: State agencies administering the Child Support Enforcement Program.

Annual Burden Estimates
Instrument | Number of respondents | Number of responses per respondent | Average burden hours per response | Total burden hours
OCSE-396A | 54 | 4 | 8 | 1,728
OCSE-34A | 54 | 4 | 12 | 2,592

Estimated Total Annual Burden Hours: 4,320.

Additional Information: Copies of the proposed collection may be obtained by writing to the Administration for Children and Families, Office of Administration, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, 725 17th Street, NW., Washington, DC 20503, Attn: Desk Officer for ACF, E-mail: OIRA_SUBMISSION@OMB.EOP.GOV, Fax: 202-395-7285.

Dated: November 18, 2010.
Robert Sargis,
Reports Clearance Officer.

[FR Doc. 2010-29565 Filed 11-23-10; 8:45 am]

BILLING CODE 4184-01-P